DEPARTMENT OF COMMERCE

Foreign-Trade Zones Board

[B-38-2012]

Foreign-Trade Zone 216—Olympia, WA; Notification of Proposed Production Activity; Callisons, Inc., (Mint Products), Lacey and Chehalis, WA

The Port of Olympia, grantee of FTZ 216, submitted a notification of proposed production activity on behalf of Callisons, Inc. (Callisons), located in Chehalis and Lacey, Washington. The Callisons facility is located within Site 3 and Site 15 of FTZ 216. The facility is used for the production and distribution of mint products, primarily for the food, confectionary, pharmaceutical and fragrance industries.

Production under FTZ procedures could exempt Callisons from customs duty payments on the foreign status components used in export production. On its domestic sales, Callisons would be able to choose the duty rates during customs entry procedures that apply to essential oils of peppermint (mentha piperita), other essential mint oils, odoriferous mixtures for use by the food and drink industries and non-alcohol perfume bases (duty rate ranges from duty-free to 4.2%) for the foreign status inputs noted below. Customs duties also could possibly be deferred or reduced on foreign status production equipment.

Components and materials sourced from abroad include: menthol, cyclenic ethers and derivatives, cyclenic ketones without oxygen, essential oils of peppermint (mentha piperita), essential oils of mint and essential oils of eucalyptus (duty rate ranges from duty-free to 4.8%).

Public comment is invited from interested parties. Submissions shall be addressed to the Board's Executive Secretary at the address below. The closing period for their receipt is June 25, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: May 10, 2012.
Andrew McGilvray,
Executive Secretary.

[FR Doc. 2012-11752 Filed 5-14-12; 8:45 am]

BILLING CODE P